DEPARTMENT OF AGRICULTURE

Foreign Agricultural Service

WTO Agricultural Safeguard Trigger Levels

AGENCY: Foreign Agricultural Service, USDA.

ACTION: Notice of product coverage and trigger levels for safeguard measures provided for in the World Trade Organization (WTO) Agreement on Agriculture.

SUMMARY: This notice lists the updated quantity trigger levels for products which may be subject to additional import duties under the safeguard provisions of the WTO Agreement on Agriculture. This notice also includes the relevant period applicable for the trigger levels on each of the listed products.

DATES: Effective Date: May 7, 2010.

FOR FURTHER INFORMATION CONTACT: Safeguard Staff, Import Policies and Export Reporting Division, Office of Trade Programs, Foreign Agricultural Service, U.S. Department of Agriculture, Stop 1021, 1400 Independence Avenue, SW., Washington, DC 20250-1021; or by telephone at (202) 720-0638, or by e-mail at itspd@fas.usda.gov.

SUPPLEMENTARY INFORMATION: Article 5 of the WTO Agreement on Agriculture provides that additional import duties may be imposed on imports of products subject to tariffication as a result of the Uruguay Round, if certain conditions are met. The agreement permits additional duties to be charged if the price of an individual shipment of imported products falls below the average price for similar goods imported during the years 1986-88 by a specified percentage. It also permits additional duties to be imposed if the volume of imports of an article exceeds the average of the most recent 3 years for which data are available by 5, 10, or 25 percent, depending on the article. These additional duties may not be imposed on quantities for which minimum or current access commitments were made during the Uruguay Round negotiations, and only one type of safeguard, price or quantity, may be applied at any given time to an article.

Section 405 of the Uruguay Round Agreements Act requires that the President cause to be published in the Federal Register information regarding the price and quantity safeguards, including the quantity trigger levels, which must be updated annually based upon import levels during the most recent 3 years. The President delegated this duty to the Secretary of Agriculture in Presidential Proclamation No. 6763, dated December 23, 1994, 60 FR 1005 (Jan. 4, 1995). The Secretary of Agriculture further delegated the duty to the Administrator of the Foreign Agricultural Service (7 CFR 2.43(a)(2) (2007)). The Annex to this notice contains the updated quantity trigger levels.

Additional information on the products subject to safeguards and the additional duties which may apply can be found in subchapter IV of Chapter 99 of the Harmonized Tariff Schedule of the United States (2010) and in the Secretary of Agriculture's Notice of Uruguay Round Agricultural Safeguard Trigger Levels, published in the Federal Register at 60 FR 427 (Jan. 4, 1995).

Notice: As provided in section 405 of the Uruguay Round Agreements Act, consistent with Article 5 of the Agreement on Agriculture, the safeguard quantity trigger levels previously notified are superceded by the levels indicated in the Annex to this notice. The definitions of these products were provided in the Notice of Uruguay Round Agricultural Safeguard Action published in the Federal Register, at 60 FR 427 (Jan. 4, 1995).

Issued at Washington, DC, April 29, 2010.
John D. Brewer,
Administrator, Foreign Agricultural Service.

Annex—Quantity-Based Safeguard Trigger
Product | Trigger level | Period
Beef | 270,519 mt | January 1, 2010 to December 31, 2010.
Mutton | 4,503 mt | January 1, 2010 to December 31, 2010.
Cream | 1,165,099 liters | January 1, 2010 to December 31, 2010.
Evaporated or Condensed Milk | 3,536,146 kilograms | January 1, 2010 to December 31, 2010.
Nonfat Dry Milk | 393,499 kilograms | January 1, 2010 to December 31, 2010.
Dried Whole Milk | 2,397,493 kilograms | January 1, 2010 to December 31, 2010.
Dried Cream | 27,330 kilograms | January 1, 2010 to December 31, 2010.
Dried Whey/Buttermilk | 30,238 kilograms | January 1, 2010 to December 31, 2010.
Butter | 7,311,166 kilograms | January 1, 2010 to December 31, 2010.
Butter Oil and Butter Substitutes | 6,985,605 kilograms | January 1, 2010 to December 31, 2010.
Dairy Mixtures | 43,535,705 kilograms | January 1, 2010 to December 31, 2010.
Blue Cheese | 4,846,863 kilograms | January 1, 2010 to December 31, 2010.
Cheddar Cheese | 12,272,710 kilograms | January 1, 2010 to December 31, 2010.
American-Type Cheese | 7,093,001 kilograms | January 1, 2010 to December 31, 2010.
Edam/Gouda Cheese | 7,019,833 kilograms | January 1, 2010 to December 31, 2010.
Italian-Type Cheese | 22,355,614 kilograms | January 1, 2010 to December 31, 2010.
Swiss Cheese with Eye Formation | 28,867,494 kilograms | January 1, 2010 to December 31, 2010.
Gruyere Process Cheese | 4,398,721 kilograms | January 1, 2010 to December 31, 2010.
Lowfat Cheese | 848,545 kilograms | January 1, 2010 to December 31, 2010.
NSPF Cheese | 46,400,350 kilograms | January 1, 2010 to December 31, 2010.
Peanuts | 15,172 mt | April 1, 2009 to March 31, 2010.
| 18,176 mt | April 1, 2010 to March 31, 2011.
Peanut Butter/Paste | 4,280 mt | January 1, 2010 to December 31, 2010.
Raw Cane Sugar | 1,407,556 mt | October 1, 2009 to September 30, 2010.
| 1,142,815 mt | October 1, 2010 to September 30, 2011.
Refined Sugar and Syrups | 191,180 mt | October 1, 2009 to September 30, 2010.
| 176,800 mt | October 1, 2010 to September 30, 2011.
Blended Syrups | 107 mt | October 1, 2009 to September 30, 2010.
| 134 mt | October 1, 2010 to September 30, 2011.
Articles Over 65% Sugar | 578 mt | October 1, 2009 to September 30, 2010.
| 277 mt | October 1, 2010 to September 30, 2011.
Articles Over 10% Sugar | 15,617 mt | October 1, 2009 to September 30, 2010.
| 15,083 mt | October 1, 2010 to September 30, 2011.
Sweetened Cocoa Powder | 1,249 mt | October 1, 2009 to September 30, 2010.
| 1,054 mt | October 1, 2010 to September 30, 2011.
Chocolate Crumb | 10,081,708 kilograms | January 1, 2010 to December 31, 2010.
Lowfat Chocolate Crumb | 226,647 kilograms | January 1, 2010 to December 31, 2010.
Infant Formula Containing Oligosaccharides | 10,530 kilograms | January 1, 2010 to December 31, 2010.
Mixes and Doughs | 315 mt | October 1, 2009 to September 30, 2010.
| 383 mt | October 1, 2010 to September 30, 2011.
Mixed Condiments and Seasonings | 176 mt | October 1, 2009 to September 30, 2010.
| 280 mt | October 1, 2010 to September 30, 2011.
Ice Cream | 2,869,565 liters | January 1, 2010 to December 31, 2010.
Animal Feed Containing Milk | 32,419 kilograms | January 1, 2010 to December 31, 2010.
Short Staple Cotton | 699,482 kilograms | September 20, 2009 to September 19, 2010.
| 591,350 kilograms | September 20, 2010 to September 19, 2011.
Harsh or Rough Cotton | 0 kilograms | August 1, 2009 to July 31, 2010.
| 0 kilograms | August 1, 2010 to July 31, 2011.
Medium Staple Cotton | 688,341 kilograms | August 1, 2009 to July 31, 2010.
| 149,148 kilograms | August 1, 2010 to July 31, 2011.
Extra Long Staple Cotton | 3,656,233 kilograms | August 1, 2009 to July 31, 2010.
| 2,017,042 kilograms | August 1, 2010 to July 31, 2011.
Cotton Waste | 395,745 kilograms | September 20, 2009 to September 19, 2010.
| 432,133 kilograms | September 20, 2010 to September 19, 2011.
Cotton, Processed, Not Spun | 3,995 kilograms | September 11, 2009 to September 10, 2010.
| 31,338 kilograms | September 11, 2010 to September 10, 2011.

[FR Doc. 2010-10878 Filed 5-6-10; 8:45 am]

BILLING CODE 3410-10-P